DEPARTMENT OF VETERANS AFFAIRS

Advisory Committee on CARES Business Plan Studies

the Department of Veterans Affairs (VA) gives notice under the Public Law 92-463 (Federal Advisory Committee Act) that a meeting of the Advisory Committee on CARES Business Plan Studies will be held on January 22, 2007, from 6 p.m. until 9 p.m. at the VA Medical Center Saint Albans Campus, in the Pratt Auditoriumm 179-00 Linden Boulevard, St. Albans, NY.

The purpose of the meeting is to present and receive public comment on the proposed capital plan for new facilities at St. Albans and the process for receiving community input on developing reuse proposals for portions of the campus that will be vacated.

Interested persons may attend and present oral or written statements to the Committee. For additional information regarding the meeting, please contact Mr. Jay Halpern, Designated Federal Officer, (CARES), 810 Vermont Ave., NW., Washington, DC 20420 by phone (202) 273-5994, or by e-mail at jay.halpern@va.gov.

Dated: December 19, 2006.
By Directiion of the Secretary.
E. Philip Riggin,
Committee Management Officer.

[FR Doc. 06-9883 Filed 12-27-06; 8:45 am]

BILLING CODE 8320-01-M